DEPARTMENT OF JUSTICE

Drug Enforcement Administration

[OMB Number 1117-0046]

Agency Information Collection Activities: Proposed Collection; Comments Requested: Self-Certification, Training, and Logbooks for Regulated Sellers of Scheduled Listed Chemical Products

ACTION: 60-Day notice.

The Department of Justice (DOJ), Drug Enforcement Administration (DEA), will be submitting the following information collection request to the Office of Management and Budget (OMB) for review and approval in accordance with the Paperwork Reduction Act of 1995. The proposed information collection is published to obtain comments from the public and affected agencies. Comments are encouraged and will be accepted until May 5, 2014. This process is conducted in accordance with 5 CFR 1320.10.

If you have comments, especially on the estimated public burden or associated response time, suggestions, or need a copy of the proposed information collection instrument with instructions or additional information, please contact Ruth A. Carter, Chief, Policy Evaluation Analysis Section, Office of Diversion Control, Drug Enforcement Administration, 8701 Morrissette Drive, Springfield, VA 22152.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Self-Certification, Training, and Logbooks for Regulated Sellers of Scheduled Listed Chemical Products.

(3) Agency form number, if any, and the applicable component of the Department of Justice sponsoring the collection: Form Number: DEA Form 597. Office of Diversion Control, Drug Enforcement Administration, Department of Justice.

(4) Affected public who will be asked or required to respond, as well as a brief abstract: Primary: Business or other for-profit. Other: None. Abstract: CMEA mandates that retail sellers of scheduled listed chemical products maintain a written or electronic logbook of sales, retain a record of employee training, and complete a self-certification form verifying the training and compliance with CMEA provisions regarding retail sales of scheduled listed chemical products.

(5) An estimate of the total number of respondents and the amount of time estimated for an average respondent to respond: It is estimated that 60,043 persons are self-certified. It is estimated that 410,000 new employees of regulated sellers receive training regarding the requirements of the Combat Methamphetamine Epidemic Act of 2005 due to annual employee turnover. It is estimated that there are 25.5 million transactions involving the sale of scheduled listed chemical products annually. The table below shows the activities and time burdens associated with this collection.

Activity | Unit burden hour | Number of activities | Total burden hours
Training record | 0.05 hour (3 minutes) | 410,000 | 20,500
Self-certification | 0.25 hour (15 minutes) | 60,043 | 15,011
Transaction record | 0.033 hour (2 minutes) | 25,500,000 | 850,000
Customer time | 0.033 hour (2 minutes) | 25,500,000 | 850,000
Total |  |  | 1,735,511

(6) An estimate of the total public burden (in hours) associated with the collection: It is estimated that there are 1,735,511 annual burden hours associated with this collection.

If additional information is required contact: Jerri Murray, Department Clearance Officer, Policy and Planning Staff, Justice Management Division, Department of Justice, Two Constitution Square, 145 N Street NE., 3W-1407B, Washington, DC 20530.

Dated: February 28, 2014.
Jerri Murray,
Department Clearance Officer for PRA, U.S. Department of Justice.

[FR Doc. 2014-04912 Filed 3-5-14; 8:45 am]

BILLING CODE 4410-09-P